DEPARTMENT OF HEALTH AND HUMAN SERVICES

National Institutes of Health

Submission for OMB Review; 30-Day Comment Request; Cardiovascular Health and Needs Assessment in Washington, DC—Development of a Community-Based Behavioral Weight Loss Intervention

SUMMARY: Under the provisions of Section 3507(a)(1)(D) of the Paperwork Reduction Act of 1995, the National Institutes of Health (NIH) has submitted to the Office of Management and Budget (OMB) a request for review and approval of the information collection listed below. This proposed information collection was previously published in the Federal Register on January 2, 2014, Volume 79, Issue Number 1, pages 41-42 and allowed 60-days for public comment. Public comments were received during the 60-day period. The purpose of this notice is to allow an additional 30 days for public comment. The National Heart, Lung and Blood Institute (NHLBI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact either: Eric Shropshire, Outreach & Research Coordinator, or Dr. Tiffany Powell-Wiley, Assistant Clinical Investigator, CPB, DIR, NHLBI, NIH, 10 Center Drive, Building 10-CRC, 5-3340, Bethesda, MD 20892, or call non-toll-free number Eric Shropshire, (301) 827-4981 or Dr. Powell-Wiley, (301) 594-3735, or Email your request, including your address to either Eric.Shropshire@nih.gov or Tiffany.Powell-Wiley@nih.gov. Formal requests for additional plans and instruments must be requested in writing.

Proposed Collection: Cardiovascular Health and Needs Assessment in Washington, DC—Development of a Community-Based Behavioral Weight Loss Intervention, New, National Heart, Lung and Blood Institute (NHLBI), National Institutes of Health (NIH).

Need and Use of Information Collection: The purpose and use of the information collection for this project is to determine the prevalence of ideal, intermediate, and poor cardiovascular health factors based on American Heart Association (AHA)-defined goals within a church-based population in wards 5, 7, and 8 in Washington, DC. The information collected will also evaluate data from handheld devices, such as wearable physical activity monitors or digital cameras, to objectively measure physical activity and dietary intake from selected community members. This protocol will then identify technology that may be incorporated into future interventions. In addition, the collected information used will be examined for methods of referral for treatment for unrecognized hypertension, diabetes, and hypercholesterolemia in the community-based population. Social determinants of obesity, particularly environmental, cultural, and psychosocial factors that might help or hinder weight loss, will be evaluated in the population. This information from the screening and needs assessment will establish a community-based participatory research (CBPR) partnership for the future design and implementation of a church-based, behavioral weight loss intervention.

OMB approval is requested for 2 years. There are no costs to respondents other than their time. The total estimated annualized burden hours are 2,380.

Estimated Annualized Burden Hours

A.12-1—Estimates of Hour Burden
Type of respondents | Number of respondents | Frequency of response | Average time per response | Annual hour burden
Consent Process | 100 | 1 | 15/60 | 25
Clinical Evaluation | 100 | 1 | 30/60 | 50
Survey Instrument | 100 | 1 | 1 | 100
Device Training | 100 | 2 | 1 | 200
Health Data Monitoring | 100 | 2 | 10 | 2,000
Device Return | 15 | 1 | 18/60 | 5

Dated: March 3, 2014.
Robert S. Balaban,
Scientific Director, Dir, NHLBI, NIH.
Dated: March 3, 2014.
Lynn Susulske,
NHLBI Project Clearance Liaison, National Institutes of Health.

[FR Doc. 2014-05698 Filed 3-13-14; 8:45 am]

BILLING CODE 4140-01-P